Title 3—

The President

Proclamation 8027 of June 2, 2006

National Oceans Week, 2006

By the President of the United States of America

A Proclamation

During National Oceans Week, we recognize the importance of the oceans to our national heritage, economy, and security and reaffirm our commitment to protecting them through wise stewardship and sensible management.

The magnificent beauty of the oceans is a blessing to our country and the world. The oceans also sustain an abundance of natural and historical treasures, enable the transportation of vital goods, and provide food and recreation for millions of people. My Administration is working with State, tribal, and local governments, the private sector, and international partners to foster more effective conservation of our oceans, coasts, and Great Lakes resources and to advance the environmental, economic, and security interests of our Nation.

On December 17, 2004, I established the Committee on Ocean Policy to implement the United States Ocean Action Plan. Through this plan, we are building an integrated ocean observing system, promoting ocean education, embarking on deep oceans research, supporting our maritime transportation system, and enhancing our international leadership role in ocean science and policy. We are also advancing legislation to strengthen the National Oceanic and Atmospheric Administration, establish a system of sustainable aquaculture, and maintain protections for marine mammals. To fulfill my commitment to end overfishing, we are working with the Congress to build an improved, market-based system to better manage our fisheries and keep our commercial and recreational fishing industries strong.

I appreciate all those who are dedicated to making the oceans, coasts, and Great Lakes cleaner, healthier, and more productive. By working together, all Americans can help sustain the oceans for generations to come.

NOW, THEREFORE, I, GEORGE W. BUSH, President of the United States of America, do hereby proclaim June 4 through June 10, 2006, as National Oceans Week. I call upon the people of the United States to learn more about the vital role the oceans play in the life of our country and how we can conserve their many natural treasures. I encourage all our citizens to observe this week with appropriate programs and activities.

IN WITNESS WHEREOF, I have hereunto set my hand this second day of June, in the year of our Lord two thousand six, and of the Independence of the United States of America the two hundred and thirtieth.

B

[FR Doc. 06-5231

Filed 6-6-06; 8:45 am]

Billing code 3195-01-P